ENVIRONMENTAL PROTECTION AGENCY

[OPP-2003-0038; FRL-7291-5]

Eastern Research Group, Inc. and Geologics Corp.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Eastern Research Group, Inc. and its subcontractor, Geologics Corp., in accordance with 40 CFR 2.307(h)(3) and 2.308(i)(2). Eastern Research Group, Inc. and its subcontractor, Geologics Corp. have been awarded a contract to perform work for the Office of Enforcement and Compliance Assurance (OECA), and access to this information will enable Eastern Research Group, Inc. and its subcontractor, Geologics Corp., to fulfill the obligations of the contract.

DATES: Eastern Research Group, Inc. and its subcontractor, Geologics Corp., will be given access to this information on or before February 19, 2003.

FOR FURTHER INFORMATION CONTACT: Erik R. Johnson, FIFRA Security Officer, Information Resources and Services Division (7502C), Office of Pesticide Programs, Environmental Protection Agency, 1200 Pennsylvania Ave., NW., Washington, DC 20460-0001; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0038. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Contractor Requirements

Under Contract No. 68-W9-9057, Eastern Research Group, Inc. and its subcontractor, Contract No. 68-W0-1031, Geologics Corp., will support EPA's compliance monitoring and enforcement efforts under the Office of Compliance, by performing tasks in the following areas: Training, data management, compliance monitoring, compliance inspections, targeting, sector-based support, outreach, sampling and sample analysis, and pollution prevention.

OPP has determined that access by Eastern Research Group, Inc., and its subcontractor, Geologics Corp., to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Eastern Research Group, Inc. and its subcontractor, Geologics Corp., prohibits use of the information for any purpose not specified in the contract; prohibits disclosure of the information to a third party without prior written approval from the Agency; and requires that each official and employee of the contractor sign an agreement to protect the information from unauthorized release and to handle it in accordance with the FIFRA Information Security Manual. In addition, Eastern Research Group, Inc. and its subcontractor, Geologics Corp., are required to submit for EPA approval a security plan under which any CBI will be secured and protected against unauthorized release or compromise. No information will be provided to Eastern Research Group, Inc., and its subcontractor, Geologics Corp., until the requirements in this document have been fully satisfied. Records of information provided to Eastern Research Group, Inc., and its subcontractor, Geologics Corp., will be maintained by EPA Project Officers for this contract. All information supplied to Eastern Research Group, Inc. and its subcontractor, Geologics Corp., by EPA for use in connection with this contract will be returned to EPA when Eastern Research Group, Inc. and its subcontractor, Geologics Corp., have completed their work.

List of Subjects

Environmental protection, Business and industry, Government contracts, Government property, Security measures.

Dated: February 3, 2003.
Linda Vlier Moos,
Acting Director, Information Resources and Services Division, Office of Pesticide Programs.

[FR Doc. 03-3581 Filed 2-13-03; 8:45 am]

BILLING CODE 6560-50-S